DEPARTMENT OF ENERGY

Federal Energy Regulatory Commission

Combined Notice of Filings #2

June 20, 2013.

Take notice that the Commission received the following electric rate filings:

Docket Numbers: ER13-1164-001.

Applicants: Ohio Power Company, American Electric Power Service Corporation, PJM Interconnection, L.L.C.

Description: Ohio Power & AEP submit compliance filing per 5/23/2013 Order in ER13-1164-000 to be effective 8/8/2012.

Filed Date: 6/20/13..

Accession Number: 20130620-5119.

Comments Due: 5 p.m. ET 7/11/13.

Docket Numbers: ER13-1731-000.

Applicants: Southern California Edison Company.

Description: Notices of Cancellation with Photon Solar LLC to be effective 5/8/2013.

Filed Date: 6/20/13.

Accession Number: 20130620-5001.

Comments Due: 5 p.m. ET 7/11/13.

Docket Numbers: ER13-1732-000.

Applicants: PJM Interconnection, L.L.C.

Description: Notice of Cancellation of SA No. 3241 in Docket No. ER12-1200-000 to be effective 5/24/2013.

Filed Date: 6/20/13.

Accession Number: 20130620-5081.

Comments Due: 5 p.m. ET 7/11/13.

Docket Numbers: ER13-1733-000.

Applicants: New England Power Pool Participants Committee, ISO New England Inc.

Description: FRM Incentives to be effective 10/1/2013.

Filed Date: 6/20/13.

Accession Number: 20130620-5092.

Comments Due: 5 p.m. ET 7/11/13.

Docket Numbers: ER13-1734-000.

Applicants: Plainfield Renewable Energy, LLC.

Description: Plainfield Renewable Energy Baseline MBR Tariff to be effective 7/1/2013.

Filed Date: 6/20/13.

Accession Number: 20130620-5094.

Comments Due: 5 p.m. ET 7/11/13.

Docket Numbers: ER13-1735-000.

Applicants: Southern California Edison Company.

Description: Revised Added Facilities Rate for Victor Mesa Linda B LLC to be effective 5/8/2013.

Filed Date: 6/20/13.

Accession Number: 20130620-5095.

Comments Due: 5 p.m. ET 7/11/13.

Docket Numbers: ER13-1736-000.

Applicants: New England Power Pool Participants Committee, ISO New England Inc.

Description: Rev. to MR1 to Est. a Res. Constraint Pen. Fac Repl. Res. Requirement to be effective 10/1/2013.

Filed Date: 6/20/13.

Accession Number: 20130620-5108.

Comments Due: 5 p.m. ET 7/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2013.
Nathaniel J. Davis, Sr.,
Deputy Secretary.

[FR Doc. 2013-15389 Filed 6-26-13; 8:45 am]

BILLING CODE 6717-01-P